ENVIRONMENTAL PROTECTION AGENCY

[EPA-HQ-OPP-2017-0466; FRL-10017-47]

Product Cancellation Order for Certain Pesticide; Amendment

AGENCY: Environmental Protection Agency (EPA).

ACTION: Notice.

SUMMARY: EPA issued a notice in the Federal Register of April 13, 2018, concerning the cancellations voluntarily requested by the registrant and accepted by the Agency but that have not yet become effective. This notice is being issued to amend the cancellation order, as supported by the current registrant and requested by a distributor, by extending the effective date of the cancellation for the two spirodiclofen registrations (EPA Registration No. 264-830 and 264-831).

DATES: The Federal Register of April 13, 2018, announced the voluntary cancellation of two spirodiclofen registrations (EPA Registration No. 264-830 and 264-831) as requested by the registrant, effective December 31, 2020. The Agency is now amending the effective date of cancellation to December 31, 2021.

FOR FURTHER INFORMATION CONTACT: Veronica Dutch, Pesticide Re-evaluation Division (7508P), Office of Pesticide Programs, Environmental Protection Agency, 1200 Pennsylvania Ave., NW, Washington, DC 20460-0001; telephone number: (703) 308-8585; email address: dutch.veronica@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2017-0466, is available at http://www.regulations.gov or at the Office of Pesticide Programs Regulatory Public Docket (OPP Docket) in the Environmental Protection Agency Docket Center (EPA/DC), West William Jefferson Clinton Bldg., Rm. 3334, 1301 Constitution Ave., NW, Washington, DC 20460-0001.

Due to the public health concerns related to COVID-19, the EPA Docket Center (EPA/DC) and Reading Room is closed to visitors with limited exceptions. The staff continues to provide remote customer service via email, phone, and webform. For the latest status information on EPA/DC services and docket access, visit https://www.epa.gov/dockets.

II. What Does this Amendment Do?

This notice is being issued to amend the effective date of cancellation for the two spirodiclofen registrations listed in Table 1B of the cancellation order published in the Federal Register on April 13, 2018 (83 FR 16076) (FRL-9975-97). The April 13, 2018 Federal Register Notice corrected an earlier cancellation order that was published in December 26, 2017 (80 FR 60985) (FRL-9971-10). After issuance of the cancellation order correction notice, a different company committed to develop required data and requested an extension of the effective date of cancellation for these products, with the intention of maintaining these spirodiclofen registrations. Bayer CropScience, the current registrant for the spirodiclofen products listed in Table 1B of the cancellation order, submitted a letter supporting the requested extension. Based on letters received from the California Walnut Commission (October 12, 2020) and the California Citrus Quality Council (October 16, 2020), spirodiclofen is an important control option for plant-feeding mites in these crops, where miticide resistance is a possibility and where spirodiclofen has continued to be a component of integrated pest management. With this Notice, the effective date for cancellation of EPA Registration No. 264-830 and 264-831 is established as December 31, 2021. Consistent with the previous order, the registrant would be prohibited from producing, selling, or distributing existing stocks of products containing spirodiclofen following the cancellation effective date. Other entities would be permitted to sell, distribute, and use stocks of spirodiclofen until stocks are exhausted. The cancellation of these two registrations would terminate the last spirodiclofen products registered for use in the United States.

Authority: 7 U.S.C. 136 et seq.

Dated: November 24, 2020.
Mary Reaves,
Acting Director, Pesticide Re-Evaluation Division, Office of Pesticide Programs.

[FR Doc. 2020-28118 Filed 12-18-20; 8:45 am]

BILLING CODE 6560-50-P